DEPARTMENT OF COMMERCE

International Trade Administration

[A-570-970]

Initiation and Preliminary Results of Antidumping Duty Changed Circumstances Review: Multilayered Wood Flooring From the People's Republic of China

AGENCY: Enforcement and Compliance, International Trade Administration, Department of Commerce.

SUMMARY: The Department of Commerce (“the Department”) preliminarily determines that Zhejiang Fuma Warm Technology Co., Ltd. (“Zhejiang Fuma”) is the successor-in-interest to Huzhou Fuma Wood Bus. Co., Ltd. (“Huzhou Fuma”) for purposes of the antidumping duty order on multilayered wood flooring from the People's Republic of China (“PRC”) and, as such, is entitled to Huzhou Fuma's cash deposit rate with respect to entries of subject merchandise. Interested parties are invited to comment on this preliminary determination.

DATES: Effective Date: February 12, 2015.

FOR FURTHER INFORMATION CONTACT: James Martinelli or Krisha Hill, AD/CVD Operations, Office IV, Enforcement and Compliance, International Trade Administration, U.S. Department of Commerce, 14th Street and Constitution Avenue NW., Washington, DC 20230; telephone: (202) 482-2923 or (202) 482-4037, respectively.

SUPPLEMENTARY INFORMATION:

Background

On November 24, 2014, Zhejiang Fuma requested that the Department initiate an expedited changed circumstances review to confirm that Zhejiang Fuma is the successor-in-interest to Huzhou Fuma for purposes of determining antidumping duty liabilities.¹ We received no comments opposing Zhejiang Fuma's request.

¹ See Letter from Zhejiang Fuma to the Department regarding, “Multilayered Wood Flooring from the People's Republic of China: Request for Expedited Changed Circumstances Review” (November 24, 2014) (“CCR Request”).

On December 22, 2014, the Department extended the time period for determining whether to initiate a changed circumstances review by an additional 30 days, until February 7, 2015.²

² See Letter from Abdelali Elouaradia, Director, Office IV, AD/CVD Operations, to Zhejiang Fuma, regarding “Multilayered Wood Flooring From the People's Republic of China: Request for a Changed Circumstances Review” (December 22, 2014).

On December 31, 2014 and January 20, 2015, Zhejiang Fuma responded to supplemental questionnaires issued by the Department.³

³ See Letter from Zhejiang Fuma to the Department, regarding “Multilayered Wood Flooring from the People's Republic of China: Request for Expedited Changed Circumstances Review” (December 31, 2014) (“Supplemental Response”); Letter from Zhejiang Fuma to the Department, regarding “Multilayered Wood Flooring from the People's Republic of China: Request for Expedited Changes Circumstances Review” (January 20, 2015) (“Second Supplemental Response”).

Scope of the Order

The merchandise covered by the order includes multilayered wood flooring, subject to certain exceptions.⁴

⁴ For a complete description of the Scope of the Order, see Memorandum to Paul Piquado, Assistant Secretary for Enforcement and Compliance, from Christian Marsh, Deputy Assistant Secretary for Antidumping and Countervailing Duty Operations, “Preliminary Results of Changed Circumstances Review: Multilayered Wood Flooring from the People's Republic of China” (“Preliminary Results Memo”), dated concurrently with, and adopted by, this notice.

Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.

While HTSUS subheadings are provided for convenience and customs purposes, the written description of the subject merchandise is dispositive.

Initiation of Changed Circumstances Review

Pursuant to section 751(b)(1) of the Tariff Act of 1930, as amended (“the Act”) and 19 CFR 351.216(d), the Department will conduct a changed circumstances review upon receipt of information concerning, or a request from an interested party for a review of, an antidumping duty finding which shows changed circumstances sufficient to warrant a review of the order. The information submitted by Zhejiang Fuma claiming that Zhejiang Fuma is the successor-in-interest to Huzhou Fuma demonstrates changed circumstances sufficient to warrant a review.⁵

⁵ See 19 CFR 351.216(d).

Therefore, in accordance with section 751(b)(1) of the Act and 19 CFR 351.216(d), the Department is initiating a changed circumstances review to determine whether Zhejiang Fuma is the successor-in-interest to Huzhou Fuma.

Preliminary Determination

When it concludes that expedited action is warranted, the Department may publish the notice of initiation and preliminary results for a changed circumstances review concurrently.⁶ In this instance, because we have the information necessary on the record to make a preliminary finding, we find that expedited action is warranted, and are combining the notice of initiation and the notice of preliminary results in accordance with 19 CFR 351.221(c)(3)(ii).

⁶ See 19 CFR 351.221(c)(3)(ii).

In determining whether one company is the successor to another for purposes of applying the antidumping duty law, the Department examines a number of factors including, but not limited to, changes in (1) management, (2) production facilities, (3) suppliers, and (4) customer base.⁷ While no one or several of these factors will necessarily provide a dispositive indication of succession, the Department will generally consider one company to be the successor to another company if its resulting operation is essentially the same as that of its predecessor.⁸ Thus, if the evidence demonstrates that, with respect to the production and sale of the subject merchandise, the new company operates as the same business entity as the prior company, the Department will assign the new company the cash deposit rate of its predecessor.⁹

⁷ See, e.g., Initiation and Preliminary Results of Antidumping Duty Changed Circumstances Review: Multilayered Wood Flooring From the People's Republic of China, 79 FR 48117, 48118 (August 15, 2014), unchanged in Multilayered Wood Flooring From the People's Republic of China: Final Results of Changed Circumstances Review, 79 FR 58740 (September 30, 2014).

⁸ Id.

⁹ See Notice of Final Results of Changed Circumstances Review: Polychloroprene Rubber from Japan, 69 FR 67890 (November 22, 2004) citing, Brass Sheet and Strip from Canada: Notice of Final Results of Antidumping Duty Administrative Review, 57 FR 20460 (May 13, 1992); and, Certain Circular Welded Carbon Steel Pipes and Tubes from Taiwan: Initiation of Antidumping Duty Changed Circumstance Review, 70 FR 17063 (April 4, 2005).

In its November 24, 2014 submission and December 31, 2014 and January 20, 2015 supplemental questionnaire responses, Zhejiang Fuma provided documentation demonstrating that Zhejiang Fuma is the successor-in-interest to Huzhou Fuma in that no major changes occurred with respect to management, production process, customer base, or suppliers.¹⁰

¹⁰ See, generally, CCR Request; Supplemental Response; Second Supplemental Response.

According to the information provided, Zhejiang Fuma is owned, managed and operated by the same ownership and management teams as Huzhou Fuma.¹¹ Zhejiang Fuma also provided documentation that there had been no material change in suppliers of inputs or services related to the production, sale and distribution of the subject merchandise.¹² Regarding its production of the subject merchandise, Zhejiang Fuma has stated that the production capacity, process and equipment of Zhejiang Fuma is identical to that of Huzhou Fuma and is located at the same facility.¹³ Finally, Zhejiang Fuma has indicated that there has been no material change with its U.S. customer base or its sale of the subject merchandise.¹⁴

¹¹ See Preliminary Results Memo at 3.

¹² Id., at 3-4.

¹³ Id., at 3.

¹⁴ Id.

While Zhejiang Fuma indicated that the Coalition for Hardwood Parity, the Petitioner in the underlying investigation, did not object to Zhejiang Fuma's changed circumstances request, the Department has received no confirmation of this agreement. Nonetheless, based on a review of the record, we preliminarily find Zhejiang Fuma is the successor-in-interest to Huzhou Fuma and, as such, that it is entitled to Huzhou Fuma's cash-deposit rate with respect to entries.

Should our final results remain the same as these preliminary results, effective the date of publication of the final results, we will instruct U.S. Customs and Border Protection to assign entries of subject merchandise exported by Zhejiang Fuma the antidumping duty cash-deposit rate applicable to Huzhou Fuma.

Public Comment

Any interested party may request a hearing within 14 days of publication of this notice.¹⁵ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁶ Parties will be notified of the time and date of any hearing, if requested.

¹⁵ The Department is exercising its discretion under 19 CFR 351.310(c) to alter the time limit for requesting a hearing.

¹⁶ See 19 CFR 351.310(d).

Interested parties may submit case briefs not later than 14 days after the date of publication of this notice.¹⁷ Rebuttal briefs, which must be limited to issues raised in such briefs, may be filed not later than seven days after the due date for case briefs.¹⁸ Parties who submit case briefs or rebuttal briefs in this changed circumstances review are requested to submit with each argument (1) a statement of the issue and (2) a brief summary of the argument with an electronic version included.

¹⁷ The Department is exercising its discretion under 19 CFR 351.309(c)(1)(ii) to alter the time limit for the filing of case briefs.

¹⁸ The Department is exercising its discretion under 19 CFR 351.309(d)(1) to alter the time limit for the filing of rebuttal briefs.

All submissions, with limited exceptions, must be filed electronically using Enforcement and Compliance's Antidumping and Countervailing Duty Centralized Electronic Service System (“ACCESS”).¹⁹ An electronically filed document must be received successfully in its entirety by 5 p.m. Eastern Time (“ET”) on the due date. Documents excepted from the electronic submission requirements must be filed manually (i.e., in paper form) with the APO/Dockets Unit in Room 1870 and stamped with the date and time of receipt by 5 p.m. ET on the due date.²⁰

¹⁹ ACCESS is available to registered users at https://access.trade.gov and available to all parties in the Central Records Unit, Room 7046 of the main Department of Commerce building.

²⁰ See Antidumping and Countervailing Duty Proceedings: Electronic Filing Procedures; Administrative Protective Order Procedures, 76 FR 39263 (July 6, 2011).

Consistent with 19 CFR 351.216(e), we will issue the final results of this changed-circumstances review no later than 270 days after the date on which this review was initiated or within 45 days of publication of these preliminary results if all parties agree to our preliminary finding.

We are issuing and publishing this initiation and preliminary results notice in accordance with sections 751(b)(1) and 777(i)(1) of the Act and 19 CFR 351.216 and 351.221(c)(3).

Dated: February 3, 2015.
Paul Piquado,
Assistant Secretary for Enforcement and Compliance.

[FR Doc. 2015-02971 Filed 2-11-15; 8:45 am]

BILLING CODE 3510-DS-P